DEPARTMENT OF THE TREASURY

Internal Revenue Service

Open meeting of the Area 4 Taxpayer Advocacy Panel (including the states of Illinois, Indiana, Kentucky, Michigan, Ohio, Tennessee, and Wisconsin)

AGENCY: Internal Revenue Service (IRS) Treasury.

ACTION: Notice Correction.

SUMMARY: An open meeting of the Area 4 Taxpayer Advocacy Panel will be conducted. The Taxpayer Advocacy Panel is soliciting public comment, ideas, and suggestions on improving customer service at the Internal Revenue Service.

DATES: The meeting will be held Tuesday, May 13, 2008 and Wednesday, May 14, 2008.

FOR FURTHER INFORMATION CONTACT: Mary Ann Delzer at 1-888-912-1227, or (414) 231-2360.

SUPPLEMENTARY INFORMATION: Notice is hereby given pursuant to Section 10(a)(2) of the Federal Advisory Committee Act, 5 U.S.C. App. (1988) that a meeting of the Area 4 Taxpayer Advocacy Panel will be held Tuesday, May 13, 2008, 8 a.m. to 5 p.m., and Wednesday, May 14, 2008, 8 a.m. to Noon Eastern Time, in Cincinnati, OH. For more information or to confirm attendance, please contact Mary Ann Delzer. Ms. Delzer may be reached at 1-888-912-1227, or (414) 231-2360. Or you can submit written comments to the panel by faxing the comments to (414) 231-2363, or by mail to Taxpayer Advocacy Panel, Stop 1006MIL, 211 West Wisconsin Avenue, Milwaukee, WI 53203-2221, or you can post comments to the Web site at http://www.improveirs.org.

The agenda will include the following: Various IRS issues.

Dated: April 18, 2008.
Sandy McQuin,
Acting Director, Taxpayer Advocacy Panel.

[FR Doc. E8-9357 Filed 4-28-08; 8:45 am]

BILLING CODE 4830-01-P